Presidential Determination No. 2008-5 of October 19, 2007

Presidential Determination Relating to Assistance for Saudi Arabia

Memorandum for the Secretary of State

Pursuant to the authority vested in me by the Constitution and the laws of the United States, including section 582 of the Foreign Operations, Export Financing, and Related Programs Appropriations Act, 2006 (Public Law 109-102), and that section as carried forward by the Revised Continuing Appropriations Resolution, 2007 (Public Law 110-5), and the Continuing Appropriations Resolution, 2008 (Public Law 110-92), I hereby certify that Saudi Arabia is cooperating with efforts to combat international terrorism and that the proposed assistance will help facilitate that effort, and hereby waive the application of such sections.

You are authorized and directed to report this certification to the Congress and publish it in the Federal Register.

THE WHITE HOUSE,

Washington, October 19, 2007.

[FR Doc. 07-5372

Filed 10-25-07; 8:45 am]

Billing code 4710-10-P